DEPARTMENT OF HOMELAND SECURITY

Coast Guard

33 CFR Part 117

[Docket No. USCG-2013-0570]

Drawbridge Operation Regulation; Sacramento River, Sacramento, CA

AGENCY: Coast Guard, DHS.

ACTION: Notice of deviation from drawbridge regulation.

SUMMARY: The Coast Guard has issued a temporary deviation from the operating schedule governing the “I” Street Drawbridge across the Sacramento River, mile 59.4 at Sacramento, CA. The deviation is necessary to allow the bridge owner to make bridge repairs. This deviation allows the bridge to remain in the closed-to-navigation position during the deviation period.

DATES: This deviation is effective from 6 a.m. on August 17, 2013 to 4 p.m. on August 18, 2013.

ADDRESSES: The docket for this deviation, [USCG-2013-0570], is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email David H. Sulouff, Chief, Bridge Section, Eleventh Coast Guard District; telephone 510-437-3516, email David.H.Sulouff@uscg.mil. If you have questions on viewing the docket, call Barbara Hairston, Program Manager, Docket Operations, telephone 202-366-9826.

SUPPLEMENTARY INFORMATION: Union Pacific Railroad Company has requested a temporary change to the operation of the “I” Street Drawbridge, mile 59.4, over Sacramento River, at Sacramento, CA. The drawbridge navigation span provides 109 feet vertical clearance above Mean High Water in the full open-to-navigation position, and 30 feet vertical clearance above Mean High Water when closed. The draw opens on signal from May 1 through October 31 from 6 a.m. to 10 p.m. and from November 1 through April 30 from 9 a.m. to 5 p.m. At all other times the draw shall open on signal if at least four hours notice is given, as required by 33 CFR 117.189(a). Navigation on the waterway is commercial and recreational.

The drawspan will be secured in the closed-to-navigation position 6 a.m. to 4 p.m. on August 17 and 18, 2013, to allow the bridge owner in conjunction with the cities of Sacramento and West Sacramento to repair the pedestrian sidewalks of the drawbridge. The drawspan cannot be operated for emergency openings. This temporary deviation has been coordinated with the waterway users. No objections to the proposed temporary deviation were raised.

No alternative route is available for mariners. Vessels that can transit the bridge, while in the closed-to-navigation position, may continue to do so at any time.

In accordance with 33 CFR 117.35(e), the drawbridge must return to its regular operating schedule immediately at the end of the effective period of this temporary deviation. This deviation from the operating regulations is authorized under 33 CFR 117.35.

Dated: July 3, 2013.
D.H. Sulouff,
District Bridge Chief, Eleventh Coast Guard District.

[FR Doc. 2013-16958 Filed 7-15-13; 8:45 am]

BILLING CODE 9110-04-P